DEPARTMENT OF TRANSPORTATION

Federal Transit Administration

Preparation of an Environmental Impact Statement on NJ Transitgrid Traction Power System in Hudson County, New Jersey

AGENCY: Federal Transit Administration (FTA), DOT.

ACTION: Notice of intent to prepare an environmental impact statement.

SUMMARY: The FTA, as the federal lead agency, and the New Jersey Transit Corporation (NJ TRANSIT), as joint lead agency, are planning to prepare an Environmental Impact Statement (EIS) for the NJ TRANSITGRID TRACTION POWER SYSTEM, which will provide a reliable electric power generation system (called a microgrid) to provide electricity to operate trains on a portion of the NJ TRANSIT and Amtrak rail systems, including some sections of the Northeast Corridor and Morris & Essex line, and the Hudson-Bergen Light Rail System. The microgrid, which is needed to enhance the resiliency of the public transportation system, will also provide electricity for some signal power and tunnel ventilation, pumping, and lighting on the Main Line and Northeast Corridor. NJ TRANSITGRID consists of two projects with independent utility from each other: The TRACTION POWER SYSTEM and the DISTRIBUTED GENERATION SOLUTIONS, which will provide power to train and bus stations and other transportation facilities in northeastern New Jersey with sustainable energy sources such as fuel cells, photovoltaic panels, and combined heat and power units. The EIS, which will be prepared only for the NJ TRANSITGRID TRACTION POWER SYSTEM, will be in accordance with Council on Environmental Quality (CEQ) and FTA regulations implementing the National Environmental Policy Act (NEPA), as well as expedited project delivery provisions of the Moving Ahead for Progress in the 21st Century Act (MAP-21). DISTRIBUTED GENERATIONS SOLUTIONS is a project with independent utility from the TRACTION POWER SYSTEM and will progress in a separate process to comply with NEPA and MAP-21.

DATES: Written comments on the scope of the EIS should be sent to Mr. Nick Marton or Mr. Chris Jeter by February 29, 2016. A public scoping meeting will be held on February 3, 2016 between 4 p.m. and 8 p.m. at the location indicated under ADDRESSES below.

ADDRESSES: Written comments on the scope of the EIS should be sent to: Mr. Nick Marton, Project Manager, NJ TRANSIT, River Line Office, 800 Lemuel Avenue, Camden, NJ 08105 or Mr. Chris Jeter, NJ TRANSIT, One Penn Plaza East, 8th Floor, Newark, NJ 07105-2246. Comments may also be offered at the public scoping meeting. The date, time, and address for the public scoping meeting is as follows:

February 3, 2016 4 p.m.-8 p.m.

St. Peter's University, 2641 John F. Kennedy Blvd., Center Room, Jersey City, NJ 07306

This location is accessible to persons with disabilities. If special translation or signing service or other special accommodations are needed, please contact the Project Manager, Mr. Nick Marton at (856) 614-7003 or Mr. Chris Jeter at (973) 491-7707 at least 48 hours before the meeting. A Draft Scoping Document for the NJ TRANSITGRID TRACTION POWER SYSTEM is available on NJ TRANSIT's Web site at: http://njtransitresilienceprogram.com/documents. or by calling the project manager, Mr. Nick Marton, at (856) 614-7003 or Mr. Chris Jeter at (973) 491-7707. Copies will also be available at the scoping meeting.

FOR FURTHER INFORMATION CONTACT: Ms. Nancy Danzig, Director of Planning and Program Development, FTA Region 2, One Bowling Green, Room 429, New York, NY 10004. (212) 668-2177.

SUPPLEMENTARY INFORMATION: Scoping: The scoping process provides agencies and the public with the opportunity to review and comment on the purpose and need identified for the proposed project, alternatives considered, and the proposed methodologies that will be used to assess the potential social, economic, and environmental impacts of the project in the Draft EIS. Comments received during this process will be reviewed by FTA and NJ TRANSIT and incorporated into a Final Scoping Document, which will initiate the preparation of the Draft EIS.

Project Need: The purpose of the proposed project is to enhance the resiliency of the electricity supply to the NJ TRANSIT and Amtrak infrastructure that serves key commuter markets in New York and New Jersey to minimize public transportation service disruptions. The region's public transportation infrastructure is vulnerable to power outages due to the nature of the existing centralized power distribution system and the intensity and frequency of severe weather events.

Project Description and Alternatives: The proposed microgrid will be a state-of-the-art electric power generating facility that will be scaled to provide emergency power for NJ TRANSIT and Amtrak service operating between New York's Penn Station and northeastern New Jersey as well as other transit service as indicated above. It is anticipated that the new facility will be able to generate approximately 104 megawatts (MW) of electricity. Natural gas-fired generation was identified as the most cost-effective choice to serve the identified traction power loads (i.e., the power needed to operate trains). At the present time, four types of conventional generation are under consideration:

• A simple-cycle reciprocating engine plant, with multiple reciprocating engines;

• A combined-cycle reciprocating engine plant, configured with multiple reciprocating engines and one steam turbine;

• A simple-cycle combustion-turbine plant, with three combustion turbines; and

• A combined-cycle gas turbine plant, configured with two combustion turbines and one steam turbine.

The preferred generation system could be one of the four listed above or a combination of reciprocating engine and gas turbine technologies. Clean-burning natural gas will provide fuel for the combustion turbines and/or engines. A no action alternative, which contemplates roadway and transit facility improvements (other than the proposed project) planned for and programmed to be implemented by the year 2021 (the proposed project's completion year) will be defined to serve as a baseline for comparison to the build alternative options.

A project site for the approximate 104 MW power plant was identified in Kearny, Hudson County, New Jersey based on a site screening analysis that evaluated properties on the Kearny Peninsula near NJ TRANSIT's Mason and Amtrak's Kearny (Sub 41) substations. The NJ Transit Site Screening Analysis can be found on the projects Web page at http://njtransitresilienceprogram.com/documents.

These two substations will receive the highest electrical loads from the microgrid to supply power to the Morris & Essex Line and Northeast Corridor via transmission lines that run from the generation site to the substations. Transmission lines will also run from the proposed project site to NJ TRANSIT's Henderson substation in Hoboken, New Jersey to supply power to the Hudson-Bergen Light Rail.

EIS Process and Role of Participating Agencies and the Public: The purpose of the EIS process is to explore in a public setting potentially significant effects of implementing the proposed project on the physical, human, and natural environment. Areas of investigation will include, but are not limited to: Land use, community facilities, socioeconomic conditions, air quality (including consideration of greenhouse gas emissions and climate change), cultural resources, aesthetic conditions, transportation, noise and vibration, natural resources, water quality, electromagnetic fields, utilities, contaminated materials, and safety and security. Measures to avoid, minimize, and mitigate any significant adverse impacts will be identified. An Agency and Public Coordination Plan (Plan) has been developed to guide a comprehensive outreach program. It can be found on the project's Web page at http://njtransitresilienceprogram.com/documents.

The Plan outlines outreach to local and county officials and community and civic groups; a public scoping process to define the issues of concern among all parties interested in the project; establishment of a Technical Advisory Committee and periodic meetings with that committee; a public hearing on release of the Draft EIS; and development and distribution of project newsletters.

The purpose of and need for the proposed project has been preliminarily identified in this notice. We invite the public and participating agencies to consider the preliminary statement of purpose and need for the project, as well as the alternatives proposed for consideration. Suggestions for modifications to the statement of purpose and need and any other reasonable alternatives that meet the purpose and need for the project are welcomed and will be given serious consideration. Comments on significant environmental impacts that may be associated with the proposed project and alternatives are also welcomed. There will be additional opportunities to participate in the scoping process at the public meeting announced in this notice.

FTA Procedures: The proposed NJ TRANSITGRID project has been identified by the FTA as a project eligible for Federal funding through FTA's Emergency Relief Program that was promulgated in response to Hurricane Sandy. Prior to providing funding, the FTA must review the proposed project in accordance with NEPA as well as other related statutes and regulations. In accordance with 23 CFR 771.105(a) and 771.133, FTA will comply with all Federal environmental laws, regulations, and executive orders applicable to the proposed project during the environmental review process to the maximum extent practicable. These requirements include, but are not limited to, the regulations of the CEQ and FTA implementing NEPA (40 CFR parts 1500-1508 and 23 CFR part 771), the project-level air quality conformity regulation of the U.S. Environmental Protection Agency (EPA) (40 CFR part 93), the Section 404(b)(1) guidelines of EPA (40 CFR part 230), the regulation implementing Section 106 of the National Historic Preservation Act (36 CFR Part 800), the regulation implementing Section 7 of the Endangered Species Act (50 CFR part 402), Section 4(f) of the DOT Act (23 CFR 771.135), and Executive Orders 12898 on environmental justice, 11988, as amended, on floodplain management, 11990 on wetlands, and 13186 on migratory birds.

Public comments will be received through those methods explained earlier in this NOI and will be incorporated into a Final Scoping Document. The Final Scoping Document will detail the scope of the EIS and the potential environmental effects that will be considered during the NEPA process. After the completion of the Draft EIS, a public and agency review period will allow for input on the Draft EIS and these comments will be incorporated into the Final EIS for the proposed project. In accordance with Section 1319 of the Moving Ahead for Progress in the 21st Century Act (MAP-21) (Pub. L. 112-114), Accelerated Decision-making in Environmental Reviews, FTA may consider the use of errata sheets attached to the DEIS in place of a in place of a traditional Final EIS and/or development a single environmental decision document that consists of a Final EIS and a Record of Decision (ROD), if certain conditions exist following the conclusion of the public and agency review period for the project's Draft EIS.

The Paperwork Reduction Act seeks, in part, to minimize the cost to the taxpayer of the creation, collection, maintenance, use, dissemination, and disposition of information. Consistent with this goal and with principles of economy and efficiency in government, it is FTA policy to limit insofar as possible distribution of complete printed sets of NEPA documents. Accordingly, unless a specific request for a complete printed set of the NEPA document is received before the document is printed, FTA and NJ Transit will distribute only electronic copies of the NEPA document. A complete printed set of the environmental document will be available for review at the NJ Transit offices and elsewhere; an electronic copy of the complete environmental document will be available on the project's Web page http://njtransitresilienceprogram.com/documents.

Marilyn G. Shazor,
Regional Administrator, FTA, Region 02.

[FR Doc. 2016-00048 Filed 1-6-16; 8:45 am]

BILLING CODE P